DEPARTMENT OF DEFENSE

Office of the Secretary

[Docket ID: DoD-2013-OS-0165]

Proposed Collection; Comment Request

AGENCY: Defense Security Service, DoD.

ACTION: Notice.

SUMMARY: In compliance with Section 3506(c)(2)(A) of the Paperwork Reduction Act of 1995, the Defense Security Service (DSS) announces a proposed new public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 20, 2013.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number, and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to: Defense Security Service, Industrial Operations, ATTN: Sarah Laylo, 27130 Telegraph Road, Quantico, VA 22134-2253 or call (571) 305-6625.

Title, Associated Form, and OMB Number: Technology and Contract Information Survey; OMB Control Number: 0704-TBD.

Needs and Uses: Executive Order 12829, “National Industrial Security Program (NISP)”, (January 6, 1993, as amended), established the NISP, the purpose of which is to “safeguard classified information that may be released or has been released to current, prospective, or former contractors, licensees, or grantees of United States agencies.” Pursuant to paragraph 202(a) of the Executive Order, the Secretary of Defense serves as the “executive agent for inspecting and monitoring the contractors, licensees, and grantees who require or will require access to, or who store, or will store, classified information; and for determining the eligibility for access to classified information of contractors, licensees, and grantees and their respective employees.”

The DSS Director has been assigned specific responsibility for administering the NISP on behalf of DoD components and those Executive Branch departments and agencies that have entered into agreements with the Secretary of Defense for industrial security services required for safeguarding classified information disclosed to industry by these DoD components and Executive Branch departments or agencies (collectively referred to hereafter as Government Contracting Activities (GCAs). (See DoD Directive 5105.42, “Defense Security Service,” and DoD Instruction 5220.22, “National Industrial Security Program.”

DSS carries out its NISP administration mission in part by assessing the security posture of cleared contractor facilities in order to determine if the cleared facilities are complying with the provisions of the National Industrial Security Program Operating Manual (NISPOM) and by verifying that cleared contractors mitigate and ensuring identified security vulnerabilities.

This public information collection is focused on strengthening DSS analysis of threats to classified information and cleared personnel at cleared contractor facilities by ensuring the accuracy of contract, technology, program, and facility data in the DSS Industrial Security Facilities Database (ISFD). DSS will be able to more effectively and efficiently perform its NISP administration mission if DSS can analyze accurate information in ISFD. In turn, this will allow DSS to better tailor vulnerability assessments and other products and support for cleared facilities.

Responding to this public information collection is voluntary. This collection of information does not seek classified information or trade secrets. Respondents will be requested to state whether any information provided in response to this information collection is privileged or confidential commercial or financial information.

Affected Public: Business or other for-profit and non-profit organizations participating in the NISP and who are under the security cognizance of DSS.

Annual Burden Hours: 4,514

Number of Respondents: 13,541

Responses per Respondent: 1

Average Burden Hours per Response: 20 minutes

Frequency: Occasionally.

SUPPLEMENTARY INFORMATION:

Summary of Information Collection:

This collection of information requests the Facility Security Officer or Senior Management Official at each of the 13,541 cleared facilities operating under the NISP to provide information about the facility; the number of cleared personnel at the facility; the facility's contracts requiring access to classified information; and technology supporting those contracts. DSS will maintain the information provided in response to this collection of information in the DSS ISFD for internal use in connection with performing missions assigned to DSS. One information collection effort will be conducted initially. After the initial survey, DSS will query facilities individually on a yearly or biennial basis, prior to annual vulnerability assessments, so that accurate information is continually maintained in ISFD. Responses to the collection are strictly voluntary. The objective of this initiative is to establish accurate and current information in ISFD. This is a new survey that has not been implemented in the past. All of the collection questions are uniform and this collection of information is unique to the type of product or service that is being requested. Information technology has been identified as appropriate for the purposes of this collection. DSS will send an email invitation to complete the web-based survey instrument directly to a designated point of contact for each cleared facility operating under the NISP. The email invitation will include a secure link to access and complete the online information collection. DSS will be the user of the data collected from the Technology and Contract Information Survey.

Dated: July 17, 2013.
Aaron Siegel,
Alternate OSD Federal Register Liaison Officer, Department of Defense.

[FR Doc. 2013-17499 Filed 7-19-13; 8:45 am]

BILLING CODE 5001-06-P